Proclamation 9334 of September 30, 2015

National Breast Cancer Awareness Month, 2015

By the President of the United States of America

A Proclamation

Too often, precious lives are interrupted or cut short by cancer. Breast cancer, one of the most common cancers among American women, affects roughly 230,000 women as well as 2,300 men each year and is responsible for more than 40,000 deaths annually in the United States. Breast cancer does not discriminate—it strikes people of all races, ages, and income levels—and we must raise awareness of this disease and its symptoms so we can more easily identify it and more effectively treat it. This month, as we honor those whose lives were tragically cut short by breast cancer and as we stand with their families, let us arm ourselves with the best knowledge, tools, and resources available to fight this devastating disease.

Regular screenings and quality care are vital to improving outcomes for millions of people, and we are making strides in improving treatment options. Thanks to the Affordable Care Act, most health insurers are now required to cover recommended preventive services—including mammograms—at no extra cost, and Americans cannot be denied health coverage due to a pre-existing condition, like breast cancer. Women and men can take precautionary action on their own by talking with their health care providers about what they can do to lower their individual risk factors and learning about what tests are right for them. For more information on breast cancer prevention, treatment of metastatic breast cancer, and the latest research, visit www.Cancer.gov/Breast.

My Administration is committed to advancing research to better prevent, diagnose, and treat cancer in all its forms. Earlier this year, I announced a new initiative to invest in research that will enable clinicians to better tailor treatments to individual patients. This Precision Medicine Initiative aims to accelerate biomedical discoveries and revolutionize how we improve health and treat disease. By continuing to make breakthroughs in technology and medicine, our Nation's brightest minds are working tirelessly to combat breast cancer.

Together, we must ensure all people can enjoy the extraordinary gift that is a long, happy, and healthy life. During National Breast Cancer Awareness Month, let us remember those cancer took from us too soon—and in tribute to them, their families, and our medical professionals, let us recommit to the promise of finding a cure.

NOW, THEREFORE, I, BARACK OBAMA, President of the United States of America, by virtue of the authority vested in me by the Constitution and the laws of the United States, do hereby proclaim October 2015 as National Breast Cancer Awareness Month. I encourage citizens, government agencies, private businesses, nonprofit organizations, and all other interested groups to join in activities that will increase awareness of what Americans can do to prevent breast cancer.

IN WITNESS WHEREOF, I have hereunto set my hand this thirtieth day of September, in the year of our Lord two thousand fifteen, and of the Independence of the United States of America the two hundred and fortieth.

[FR Doc. 2015-25471

Filed 10-2-15; 11:15 am]

Billing code 3295-F6-P